DEPARTMENT OF COMMERCE

International Trade Administration

[A-122-863]

Large Diameter Welded Pipe From Canada: Preliminary Results of Antidumping Duty Administrative Review and Partial Rescission of Administrative Review; 2020-2021

AGENCY: Enforcement and Compliance, International Trade Administration, Department of Commerce.

SUMMARY: The U.S. Department of Commerce (Commerce) is conducting an administrative review of the antidumping duty (AD) order on large diameter welded pipe (welded pipe) from Canada. The period of review (POR) is May 1, 2020, through April 30, 2021. The review covers 46 producers or exporters of the subject merchandise including the sole mandatory respondent, Evraz. We preliminarily determine that Evraz made sales of subject merchandise at prices below normal value (NV) during the POR. We are also rescinding this administrative review for 42 companies for which this review was initiated. Interested parties are invited to comment on these preliminary results.

DATES: Applicable June 6, 2022.

FOR FURTHER INFORMATION CONTACT: Irene Gorelik or Patrick Crotty, AD/CVD Operations, Office VIII, Enforcement and Compliance, International Trade Administration, U.S. Department of Commerce, 1401 Constitution Avenue NW, Washington, DC 20230; telephone: (202) 482-6905 or (202) 482-0568, respectively.

SUPPLEMENTARY INFORMATION:

Background

On May 2, 2019, Commerce published the AD order on welded pipe from Canada.¹ On July 10, 2020, in accordance with 19 CFR 351.221(c)(i), Commerce initiated an administrative review of the Order, covering 46 producers or exporters of the subject merchandise.² On August 10, 2021, we selected Evraz ³ as the sole mandatory respondent in this administrative review.⁴ Pursuant to section 751(a)(3)(A) of the Tariff Act of 1930, as amended (the Act), Commerce determined that it was not practicable to complete the preliminary results of this review within 245 days, and extended the deadline for the preliminary results of this review by 100 days, until May 11, 2022.⁵ Subsequently, Commerce extended the deadline for the preliminary results by an additional 16 days, until May 27, 2022.⁶

¹ See Large Diameter Welded Pipe from Canada: Antidumping Duty Order, 84 FR 18775 (May 2, 2019) (Order).

² See Initiation of Antidumping and Countervailing Duty Administrative Reviews, 86 FR 35481 (July 6, 2021) (Initiation Notice).

³ In the underlying investigation, Commerce treated Evraz Inc. NA, Evraz Inc. NA Canada, and the Canadian National Steel Corporation (collectively, Evraz) as a single entity. See Order. There is no information on the record of this administrative review that indicates a change would be warranted of this single entity determination.

⁴ See Memorandum, “Respondent Selection,” dated August 10, 2021.

⁵ See Memorandum, “Extension of Deadline for Preliminary Results of Antidumping Duty Administrative Review,” dated January 3, 2022.

⁶ See Memorandum, “Extension of Deadline for Preliminary Results of Antidumping Duty Administrative Review,” dated April 25, 2022.

For a detailed description of the events that followed the initiation of this review, see the Preliminary Decision Memorandum.⁷ A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of Antidumping Duty Administrative Review: Large Diameter Welded Pipe from Canada; 2020-2021,” dated concurrently with, and hereby adopted by, this notice (Preliminary Decision Memorandum).

Scope of the Order

The product covered by the Order is welded pipe from Canada. For a full description of the scope of the Order, see the Preliminary Decision Memorandum.

Partial Rescission of Review

On October 4, 2021, the Domestic Interested Party ⁸ filed a timely letter withdrawing its review request for all companies that it had requested.⁹ Commerce notes that the Domestic Interested Party requested review of Canadian National Steel Corp.; Evraz Inc. NA; Evraz Inc. NA Canada; and The Canadian National Steel Corporation.¹⁰ However, because Evraz did not withdraw its review request, i.e., for Evraz Inc. NA, we will not rescind the review with respect to either Evraz NA Inc. or the other companies requested by the Domestic Interested Party which are part of the Evraz single entity. Therefore, we are rescinding the review with respect to the 42 companies not associated with Evraz and for which all review requests were timely withdrawn.¹¹

⁸ The Domestic Interested Party is the American Line Pipe Producers Association Trade Committee.

⁹ See Domestic Interested Party's Letter, “Withdrawal of Review Request,” dated October 4, 2021.

¹⁰ See Domestic Interested Party's Letter, “Request for Administrative Review,” dated June 1, 2021. We note that Canadian National Steel Corp. listed separately in the Domestic Interested Party's review request is an abbreviated form of The Canadian National Steel Corporation, one of the companies within the Evraz single entity, as the Domestic Interested Party provides the same address for both names.

¹¹ See Appendix II.

Pursuant to 19 CFR 351.213(d)(1), Commerce will rescind an administrative review, in whole or in part, if the party that requested the review withdraws its request within 90 days of the publication of the notice of initiation of the requested review. Because all requests for an administrative review of the 42 companies listed in Appendix II were withdrawn by interested parties within 90 days of the date of publication of the Initiation Notice, Commerce is rescinding this review with respect to these companies in accordance with 19 CFR 351.213(d)(1).

Methodology

Commerce is conducting this review in accordance with section 751(a) of the Act. Export price is calculated in accordance with section 772 of the Act. NV is calculated in accordance with section 773 of the Act. For a full description of the methodology underlying these preliminary results, see the Preliminary Decision Memorandum.

Preliminary Results of the Review

We preliminarily determine that the following weighted-average dumping margin exists for the period of May 1, 2020, through April 30, 2021:

Producer/exporter | Weighted-average dumping margin (percent)
Evraz Inc. NA/Evraz Inc. NA Canada/The Canadian National Steel Corporation | 1.04

Disclosure and Public Comment

We intend to disclose the calculations performed for these preliminary results to interested parties with an Administrative Protective Order within five days after public announcement of the preliminary results.¹²

¹² See 19 CFR 351.224(b).

Pursuant to 19 CFR 351.309(c), interested parties may submit case briefs no later than 30 days after the date of publication of this notice.¹³ Rebuttal briefs, limited to issues raised in the case briefs, may be filed not later than seven days after the date for filing case briefs.¹⁴ Parties who submit case or rebuttal briefs in this proceeding are encouraged to submit with each argument: (1) a statement of the issue; (2) a brief summary of the argument; and (3) a table of authorities.¹⁵ Executive summaries should be limited to five pages total, including footnotes.

¹³ See 19 CFR 351.309(c)(1)(ii).

¹⁴ See 19 CFR 351.309(d)(1) and (2).

¹⁵ See 19 CFR 351.309(c)(2) and (d)(2).

Pursuant to 19 CFR 351.310(c), interested parties who wish to request a hearing must submit a written request to the Assistant Secretary for Enforcement and Compliance, filed electronically via ACCESS, within 30 days after the date of publication of this notice. Requests should contain: (1) the party's name, address, and telephone number; (2) the number of participants; and (3) a list of issues to be discussed. Issues raised in the hearing will be limited to those raised in the respective case and rebuttal briefs. If a request for a hearing is made, Commerce intends to hold the hearing at a date and time to be determined.

All briefs and hearing requests must be filed electronically using ACCESS ¹⁶ and must be served on interested parties.¹⁷ An electronically-filed document must be received successfully in its entirety by ACCESS by 5 p.m. Eastern Time on the due date. Note that Commerce has temporarily modified certain of its requirements for serving documents containing business proprietary information, until further notice.¹⁸

¹⁶ See 19 CFR 351.303.

¹⁷ See 19 CFR 351.303(f).

¹⁸ See Temporary Rule Modifying AD/CVD Service Requirements Due to COVID-19; Extension of Effective Period, 85 FR 41363 (July 10, 2020).

Assessment Rates

Pursuant to section 751(a)(2)(A) of the Act and 19 CFR 351.212(b)(1), Commerce will determine, and U.S. Customs and Border Protection (CBP) shall assess, ADs on all appropriate entries of subject merchandise covered by this review.

For the 42 companies for which Commerce is rescinding this review, as described above, Commerce will instruct CBP to assess ADs on all appropriate entries at a rate equal to the cash deposit rate of estimated ADs required at the time of entry, or withdrawal from warehouse, for consumption, during the period May 1, 2020, through April 30, 2021, in accordance with 19 CFR 351.212(c)(1)(i). Commerce intends to issue appropriate assessment instructions to CBP no earlier than 35 days after the date of publication of this notice in the Federal Register, in accordance with 19 CFR 356.8(a).

For the remaining entity subject to this review (i.e., Evraz), Commerce intends to issue assessment instructions to CBP no earlier than 35 days after the date of publication of the final results of this review in the Federal Register, in accordance with 19 CFR 356.8(a). Because Evraz reported that it is the importer of record for all its U.S. sales and Evraz reported the entered value of those sales,¹⁹ if Evraz's weighted-average dumping margin is not zero or de minimis (i.e., less than 0.50 percent), then upon completion of the final results, Commerce will calculate importer-specific ad valorem AD assessment rates based on the ratio of the total amount of dumping calculated for the examined sales to the total entered value of those sales. If Evraz's weighted-average dumping margin is zero or de minimis within the meaning of 19 CFR 351.106(c)(1), or the importer-specific assessment rate is zero or de minimis, we will instruct CBP to liquidate the appropriate entries without regard to ADs.²⁰

¹⁹ See Evraz's Letter, “Response to Initial Questionnaire Sections B-D,” dated October 7, 2021, at C-62.

²⁰ See 19 CFR 352.106(c)(2); see also Antidumping Proceeding: Calculation of the Weighted-Average Dumping Margin and Assessment Rate in Certain Antidumping Proceedings; Final Modification, 77 FR 8101, 8103 (February 14, 2012).

Commerce's “automatic assessment” practice will apply to entries of subject merchandise during the POR produced by Evraz for which the company did not know that the merchandise it sold to the intermediary (e.g., a reseller, trading company, or exporter) was destined for the United States. In such instances, we will instruct CBP to liquidate unreviewed entries at the all-others rate if there is no rate for the intermediate company(ies) involved in the transaction.²¹

²¹ See Antidumping and Countervailing Duty Proceedings: Assessment of Antidumping Duties, 68 FR 23954 (May 6, 2003).

The final results of this review shall be the basis for the assessment of ADs on entries of merchandise covered by the final results of this review and for future cash deposits of estimated ADs, where applicable.²²

²² See section 751(a)(2)(C) of the Act.

Cash Deposit Requirements

The following cash deposit requirements will be effective for all shipments of the subject merchandise entered, or withdrawn from warehouse, for consumption on or after the publication date of the final results of this administrative review, as provided by section 751(a)(2)(C) of the Act: (1) the cash deposit rate for Evraz will be equal to the weighted-average dumping margin established in the final results of this review, except if the rate is less than 0.50 percent and, therefore, de minimis within the meaning of 19 CFR 351.106(c)(1), in which case the cash deposit rate will be zero; (2) for previously reviewed or investigated companies not covered in this review, including the 42 companies for which Commerce is rescinding this review, the cash deposit rate will continue to be the company-specific rate published for the most recently-completed segment of this proceeding in which the company was reviewed; (3) if the exporter is not a firm covered in this review or in the less-than-fair-value (LTFV) investigation, but the producer is, then the cash deposit rate will be the company-specific rate established for the most recently-completed segment of this proceeding for the producer of subject merchandise; and (4) the cash deposit rate for all other producers or exporters will continue to be 12.32 percent, the all-others rate established in the LTFV investigation.²³

²³ See Order.

These cash deposit requirements, when imposed, shall remain in effect until further notice.

Final Results of Review

Unless otherwise extended, Commerce intends to issue the final results of this administrative review, including the results of our analysis of issues raised by the parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of ADs prior to liquidation of the relevant entries during this POR. Failure to comply with this requirement could result in Commerce's presumption that reimbursement of ADs occurred and the subsequent assessment of doubled ADs.

Notification to Interested Parties

These preliminary results are issued and published in accordance with sections 751(a)(1) and 777(i)(1) of the Act, and 19 CFR 351.221(b)(4).

Dated: May 27, 2022.
Lisa W. Wang,
Assistant Secretary for Enforcement and Compliance.

Appendix I

List of Topics Discussed in the Preliminary Decision Memorandum

I. Summary

II. Background

III. Scope of the Order

IV. Partial Rescission of Review

V. Discussion of the Methodology

VI. Currency Conversion

VII. Recommendation

Appendix II

Companies Rescinded From Review

1. Acier Profile SBB Inc

2. Aciers Lague Steels Inc

3. Amdor Inc

4. Armtec-Canada Culvert

5. BPC Services Group

6. Bri‐Steel Manufacturing

7. Canada Culvert

8. Canam (St Gedeon)

9. Canam Group Inc.

10. Cappco Tubular Products Canada Inc

11. CFI Metal Inc

12. Dominion Pipe & Piling

13. Enduro Canada Pipeline Services

14. Fi Oilfield Services Canada

15. Forterra

16. Gchem Ltd

17. Graham Construction

18. Groupe Fordia Inc

19. Grupo Fordia Inc

20. Hodgson Custom Rolling

21. Hyprescon Inc

22. Interpipe Inc

23. K K Recycling Services

24. Kobelt Manufacturing Co

25. Labrie Environment

26. Les Aciers Sofatec

27. Lorenz Conveying P

28. Lorenz Conveying Products

29. Matrix Manufacturing

30. MBI Produits De Forge

31. Nor Arc

32. Peak Drilling Ltd

33. Pipe & Piling Sply Ltd

34. Pipe & Piling Supplies

35. Prudental

36. Prudential

37. Shaw Pipe Protecction

38. Shaw Pipe Protection

39. Tenaris Algoma Tubes Facility

40. Tenaris Prudential

41. Welded Tube of Can Ltd

42. WGI Westman Group Inc.

[FR Doc. 2022-12083 Filed 6-3-22; 8:45 am]

BILLING CODE 3510-DS-P